DEPARTMENT OF THE INTERIOR

Fish and Wildlife Service

50 CFR Part 17

[Docket No. FWS-R8-ES-2013-0011; 4500030114]

RIN 1018-AZ44

Endangered and Threatened Wildlife and Plants; Designation of Critical Habitat for the Western Distinct Population Segment of the Yellow-Billed Cuckoo (Coccyzus americanus)

AGENCY: Fish and Wildlife Service, Interior.

ACTION: Proposed rule; notice of public hearing.

SUMMARY: On August 15, 2014, we, the U.S. Fish and Wildlife Service (Service), announced a proposal to designate critical habitat for the western distinct population segment of the yellow-billed cuckoo (western yellow-billed cuckoo) under the Endangered Species Act of 1973, as amended (Act). On November 12, 2014, the public comment period was reopened for an additional 60 days until January 12, 2015. We now announce a public hearing in California. The public hearing will provide an opportunity for the public to provide comments and testimony on the proposed designation of critical habitat for the western yellow-billed cuckoo. Comments previously submitted need not be resubmitted, as they will be fully considered in preparation of the final rule.

DATES: We request that comments on this proposal be submitted by the close of business on January 12, 2015. Comments submitted electronically using the Federal eRulemaking Portal (see ADDRESSES, below) must be received by 11:59 p.m. Eastern Time on the closing date.

Public Hearing: We will hold a public hearing on the proposed critical habitat rule on December 18, 2014; see ADDRESSES for location:

• Sacramento, CA: Public Hearing from 2 p.m. to 4 p.m. Registration to present oral comments on the proposed designation at the public hearing will begin at 1:30 p.m. prior to the start of the hearing.

ADDRESSES: Document availability: You may obtain a copy of the proposed rule, economics screening memo, and incremental effects memo on the Internet at http://www.regulations.gov at Docket No. FWS-R8-ES-2013-0011, or contact the U.S. Fish and Wildlife Service, Sacramento Fish and Wildlife Office (see FOR FURTHER INFORMATION CONTACT), or by mail from U.S. Fish and Wildlife Service, Sacramento Fish and Wildlife Office (see FOR FURTHER INFORMATION CONTACT).

Public Hearing: The public hearing will be located in: Sacramento, California—Double Tree Inn, 2001 Point West Way, Sacramento, CA 95815.

Comment Submission: You may submit comments by one of the following methods:

(1) Electronically: Go to the Federal eRulemaking Portal: http://www.regulations.gov. In the Search box, enter FWS-R8-ES-2013-0011, which is the docket number for this rulemaking. Then, in the Search panel on the left side of the screen, under the Document Type heading, click on the Proposed Rule link to locate the document. You may submit a comment by clicking on “Comment Now!”

(2) By hard copy: Submit by U.S. mail or hand-delivery to: Public Comments Processing, Attn: FWS-R8-ES-2013-0011; Division of Policy and Directives Management; U.S. Fish & Wildlife Headquarters, MS: BPHC, 5275 Leesburg Pike, Falls Church, VA 22041-3803.

We request that you send comments only by the methods described above. We will post all comments on http://www.regulations.gov. This generally means that we will post any personal information you provide us (see the Information Requested section below for more information).

FOR FURTHER INFORMATION CONTACT: For information about the proposed designation, contact Jennifer Norris, Field Supervisor, U.S. Fish and Wildlife Service, Sacramento Fish and Wildlife Office, 2800 Cottage Way, W-2605, Sacramento, California 95825; by telephone 916-414-6600; or by facsimile 916-414-6712. Information is also available at the Sacramento Fish and Wildlife Office Web site at http://www.fws.gov/sacramento. Persons who use a telecommunications device for the deaf (TDD) may call the Federal Information Relay Service (FIRS) at 800-877-8339.

SUPPLEMENTARY INFORMATION:

Background

On August 15, 2014, we published in the Federal Register a proposed rule to designate critical habitat for the western distinct population segment (DPS) of the yellow-billed cuckoo (western yellow-billed cuckoo) (Coccyzus americanus) under the Endangered Species Act (79 FR 48548). In total, approximately 546,335 acres (221,094 hectares) are being proposed for designation as critical habitat in Arizona, California, Colorado, Idaho, Nevada, New Mexico, Texas, Utah, and Wyoming for the western yellow-billed cuckoo under the Act. During the public comment period, we received requests to hold a public hearing on the proposed designation. On November 12, 2014, we published in the Federal Register a notice reopening the comment period on the proposed critical habitat designation until January 12, 2015 (79 FR 67154).

Information Requested

We intend that any final action resulting from this proposed rule will be based on the best scientific and commercial data available and be as accurate and as effective as possible. Therefore, we request comments or information from other concerned Federal and State agencies, the scientific community, or any other interested party concerning the proposed critical habitat designation. Please see the Information Requested section of the August 15, 2014, proposed critical habitat rule for a list of the comments that we particularly seek (79 FR 48548-48549).

For more background on our proposed designation, see the August 15, 2014, Federal Register (79 FR 48548). The proposed rule is available at the Federal eRulemaking Portal at http://www.regulations.gov or the Sacramento Fish and Wildlife Office at http://www.fws.gov/sacramento (see ADDRESSES).

If you previously submitted comments or information on the proposed rule, please do not resubmit them. We have incorporated them into the public record, and we will fully consider them in our final rulemaking. Our final determination concerning this proposed rulemaking will take into consideration all written comments and any additional information we receive.

Please note that submissions merely stating support for or opposition to the action under consideration without providing supporting information, although noted, will not be considered in making a determination, as section 4(b)(1)(A) of the Act directs that determinations as to whether any species is an endangered or threatened species must be made “solely on the basis of the best scientific and commercial data available.”

You may submit your comments and materials concerning the proposed rule by one of the methods listed in ADDRESSES. We request that you send comments only by the methods described in ADDRESSES. If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov. Please include sufficient information with your comments to allow us to verify any scientific or commercial information you include.

Comments and materials we receive, as well as supporting documentation we used in preparing the proposed designation, will be available for public inspection on http://www.regulations.gov, or by appointment, during normal business hours, at the U.S. Fish and Wildlife Service, Sacramento Fish and Wildlife Office (see FOR FURTHER INFORMATION CONTACT).

Authority

The authority for this action is the Endangered Species Act of 1973, as amended (16 U.S.C. 1531 et seq.).

Dated: November 20, 2014.
Michael Bean,
Principal Deputy Assistant Secretary for Fish and Wildlife and Parks.

[FR Doc. 2014-28330 Filed 12-1-14; 8:45 am]

BILLING CODE 4310-55-P